DEPARTMENT OF EDUCATION

Office of Management, Notice of Membership

AGENCY: Department of Education.

ACTION: Notice of Membership of the Performance Review Board.

SUMMARY: The Secretary announces the members of the Performance Review Board (PRB) for the Department of Education for the Senior Executive Service (SES) performance cycle that ends September 30, 2006. Under 5 U.S.C. 4314(c)(1) through (5), each agency is required to establish one or more PRBs.

Composition and Duties

The PRB of the Department of Education for 2006 is composed of career senior executives, noncareer senior executives, and Presidential appointees.

The PRB reviews and evaluates the initial appraisal of each senior executive's performance, along with any comments by that senior executive and by any higher-level executive or executives. The PRB makes recommendations to the appointing authority relative to the performance of the senior executive, including recommendations on performance awards. The Department of Education's PRB also makes recommendations on SES pay adjustments for career senior executives.

Membership

The Secretary has selected the following executives of the Department of Education for the specified SES performance cycle: Chair: Michell Clark, David Black, Kathleen Leos, Cheryl Oldham, Kent Talbert, Margo Anderson, Dennis Berry, Sue Betka, Carol Cichowski, Harry Feely, Patricia Guard, Danny Harris, Gary Hopkins, Jeannette Lim, Philip Link, Andrew Pepin, Thomas Skelly, Ricky Takai, and Veronica Trietsch. Alternates include: Susan Craig, Robert Eitel, and John McGrath.

FOR FURTHER INFORMATION CONTACT: Debra Gibson, Director, Executive Resources Team, Human Resources Services, Office of Management, U.S. Department of Education, 400 Maryland Avenue, SW., Room 2E124, FOB-6, Washington, DC 20202-4573. Telephone: (202) 401-2548.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

Electronic Access to This Document

You may view this document, as well as all other Department of Education documents published in the Federal Register, in text or Adobe Portable Document Format (PDF) on the Internet at the following site: http://www.ed.gov/news/fedregister.

To use PDF, you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: October 12, 2006.
Margaret Spellings,
Secretary of Education.

[FR Doc. E6-17238 Filed 10-16-06; 8:45 am]

BILLING CODE 4000-01-P